FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 010071-036.

Title: Cruise Lines International Association Agreement.

Parties: AMA Waterways; American Cruise Lines, Inc.; Azamara Cruises; Carnival Cruise Lines; Celebrity Cruises, Inc.; Costa Cruise Lines; Crystal Cruises; Cunard Line; Disney Cruise Line; Holland America Line; Hurtigruten, Inc.; Majestic America Line; MSC Cruises; NCL Corporation; Oceania Cruises; Orient Lines; Princess Cruises; Regent Seven Seas Cruises; Royal Caribbean International; Seabourn Cruise Line; SeaDream Yacht Club; Silversea Cruises, Ltd.; Uniworld River Cruises, Inc.; and Windstar Cruises.

Filing Party: Terry Dale, President; Cruise Lines International Association, Inc.; 910 SE 17th Street, Suite 400; Fort Lauderdale, FL 33316.

Synopsis: The amendment would add Avalon Waterways and Paul Gauguin Cruises and delete Majestic America Line and Orient Lines as parties to the agreement.

Agreement No.: 012081.

Title: MSC/CMA CGM Cross Slot Charter Agreement.

Parties: CMA CGM. S.A. and MSC Mediterranean Shipping Company S.A.

Filing Party: Draughn B. Arbona, Esq.; CMA CGM (America) LLC; 5701 Lake Wright Drive; Norfolk, VA 23502-1868.

Synopsis: The agreement would authorize the parties to exchange slots in the trade between California ports and ports in China.

By Order of the Federal Maritime Commission.
Dated: September 18, 2009.
Karen V. Gregory,
Secretary.

[FR Doc. E9-22986 Filed 9-22-09; 8:45 am]

BILLING CODE 6730-01-P